DEPARTMENT OF ENERGY

Federal Energy Regulatory Commission

Combined Notice of Filings #1

Take notice that the Commission received the following electric corporate filings:

Docket Numbers: EC22-124-000.

Applicants: SR Cedar Springs, LLC, SR Clay, LLC.

Description: Joint Application for Authorization Under Section 203 of the Federal Power Act of SR Cedar Springs, LLC, et al.

Filed Date: 9/23/22.

Accession Number: 20220923-5209.

Comment Date: 5 p.m. ET 10/14/22.

Docket Numbers: EC22-125-000.

Applicants: Wisconsin Power and Light Company, WPL Bear Creek Solar, LLC, WPL Wood County Solar, LLC, WPL North Rock Solar, LLC.

Description: Joint Application for Authorization Under Section 203 of the Federal Power Act of Wisconsin Power and Light Company, et al.

Filed Date: 9/23/22.

Accession Number: 20220923-5210.

Comment Date: 5 p.m. ET 10/14/22.

Take notice that the Commission received the following exempt wholesale generator filings:

Docket Numbers: EG22-226-000.

Applicants: Jicarilla Solar 1 LLC.

Description: Jicarilla Solar 1 LLC submits Notice of Self-Certification of Exempt Wholesale Generator Status.

Filed Date: 9/23/22.

Accession Number: 20220923-5197.

Comment Date: 5 p.m. ET 10/14/22.

Docket Numbers: EG22-227-000.

Applicants: Jicarilla Storage 1 LLC.

Description: Jicarilla Storage 1 LLC submits Notice of Self-Certification of Exempt Wholesale Generator Status.

Filed Date: 9/23/22.

Accession Number: 20220923-5199.

Comment Date: 5 p.m. ET 10/14/22.

Take notice that the Commission received the following electric rate filings:

Docket Numbers: ER10-2269-002; ER10-2447-002; ER10-2937-001; ER10-2938-001; ER10-2948-001; ER10-2962-002; ER10-2967-001; ER12-1359-001; ER13-2199-001.

Applicants: Allegany Generating Station LLC, Alliance NYGT, LLC, Seneca Power Partners, L.P., Sterling Power Partners, L.P., AG-Energy, L.P., Alliance Energy Marketing, LLC, AER NY-Gen, LLC, Power City Partners, L.P., Carthage Energy, LLC.

Description: Notice of Change in Status of Carthage Energy, LLC, et al.

Filed Date: 9/22/22.

Accession Number: 20220922-5189.

Comment Date: 5 p.m. ET 10/13/22.

Docket Numbers: ER22-2733-001.

Applicants: Black Mesa Interconnection, LLC.

Description: Tariff Amendment: Amendment to Filing of Amended and Restated Shared Facilities Agreement to be effective 10/26/2022.

Filed Date: 9/23/22.

Accession Number: 20220923-5175.

Comment Date: 5 p.m. ET 10/3/22.

Docket Numbers: ER22-2929-000.

Applicants: PJM Interconnection, L.L.C.

Description: § 205(d) Rate Filing: First Revised ISA, Service Agreement No. 5345; Queue No. AF2-317 to be effective 8/26/2019.

Filed Date: 9/26/22.

Accession Number: 20220926-5030.

Comment Date: 5 p.m. ET 10/17/22.

Docket Numbers: ER22-2930-000.

Applicants: PJM Interconnection, L.L.C.

Description: § 205(d) Rate Filing: Original ISA No. 6609; Queue No. AD1-025 to be effective 8/26/2022.

Filed Date: 9/26/22.

Accession Number: 20220926-5066.

Comment Date: 5 p.m. ET 10/17/22.

Docket Numbers: ER22-2931-000.

Applicants: PJM Interconnection, L.L.C.

Description: § 205(d) Rate Filing: Original Service Agreement Nos. 6612 and 6613; Queue No. AC1-190 to be effective 12/31/9998.

Filed Date: 9/26/22.

Accession Number: 20220926-5096.

Comment Date: 5 p.m. ET 10/17/22.

Docket Numbers: ER22-2932-000.

Applicants: Louisville Gas and Electric Company.

Description: Tariff Amendment: Notice of Terminatino Rhudes Creek PLGIA to be effective 9/20/2022.

Filed Date: 9/26/22.

Accession Number: 20220926-5097.

Comment Date: 5 p.m. ET 10/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2022.
Debbie-Anne A. Reese,
Deputy Secretary.

[FR Doc. 2022-21258 Filed 9-29-22; 8:45 am]

BILLING CODE 6717-01-P